NATIONAL AERONAUTICS AND SPACE ADMINISTRATION

14 CFR Parts 1260, 1273, and 1274

RIN 2700-AD11

NASA Grant and Cooperative Agreement Handbook—Research Misconduct

AGENCY: National Aeronautics and Space Administration.

ACTION: Final rule.

SUMMARY: This final rule amends several of the NASA Grant and Cooperative Agreement Handbook sections, which are all entitled, “Definitions,” to include Research Misconduct as a defined term. In addition, provisions would be added to implement NASA's requirements on research misconduct.

DATES: Effective Date: May 19, 2005.

FOR FURTHER INFORMATION CONTACT: Paul Brundage, NASA Headquarters, Code HC, Washington, DC, (202) 358-0481, e-mail: paul.d.brundage@nasa.gov.

SUPPLEMENTARY INFORMATION:

A. Background

NASA published a final rule in the Federal Register at 69 FR 42102 on July 14, 2004, (see 14 CFR part 1275), which defined and established policy and procedures regarding research misconduct. This final rule implements those polices and procedures for grants and cooperative agreements.

B. Regulatory Flexibility Act

NASA certifies that this final rule will not have a significant economic impact on a substantial number of small entities within the meaning of the Regulatory Flexibility Act, 5 U.S.C. 601 et seq., because the changes will affect an insignificant number of grants and cooperative agreements.

C. Paperwork Reduction Act

The Paperwork Reduction Act does not apply because this rule does not impose any new recordkeeping or information collection requirements, or collection of information from offerors, contractors, or members of the public that require the approval of the Office of Management (OMB) and Budget under 44 U.S.C. 3501, et seq.

List of Subjects in 14 CFR Parts 1260, 1273, and 1274

Grant Programs—Science and technology.

Tom Luedtke,
Assistant Administrator for Procurement.

Accordingly, 14 CFR parts 1260, 1273, and 1274 are amended as follows:

PART 1260—GRANTS AND COOPERATIVE AGREEMENTS

1. The authority citation for 14 CFR part 1260 continues to read as follows:

Authority: 42 U.S.C. 2473(c)(1), Pub. L. 97-258, 96 Stat. 1003 (31 U.S.C. 6301, et seq.), and OMB Circular A-110.

2. Add § 1260.40 to read as follows:

§ 1260.40 Investigation of Research Misconduct.

Investigation of Research Misconduct (May 2005)

Recipients of this grant or cooperative agreement are subject to the requirements of 14 CFR part 1275, “Investigation of Research Misconduct.”

[End of provision]

3. Amend § 1260.102 by adding the definition for “Research misconduct” after “Research and development” to read as follows:

§ 1260.102 Definitions.

* * * * *

Research misconduct is defined in 14 CFR 1275.101. NASA policies and procedures regarding Research misconduct are set out in 14 CFR part 1275, “Investigation of Research Misconduct.”

* * * * *

PART 1273—GRANTS AND COOPERATIVE AGREEMENTS

4. The authority citation for 14 CFR part 1273 continues to read as follows:

Authority: 42 U.S.C. 2451, et seq., and 31 U.S.C. 6301 to 6308.

5. Amend § 1273.3 by adding the definition for “Research misconduct” after “Real property” to read as follows:

§ 1273.3 Definitions.

* * * * *

Research misconduct is defined in 14 CFR 1275.101. NASA policies and procedures regarding Research misconduct are set out in 14 CFR part 1275, “Investigation of Research Misconduct.”

* * * * *

PART 1274—GRANTS AND COOPERATIVE AGREEMENTS

6. The authority citation for 14 CFR part 1274 continues to read as follows:

Authority: 42 U.S.C. 2451, et seq., and 31 U.S.C. 6301 to 6308.

7. Amend § 1274.103 by adding the definition for “Research misconduct” after “Recipient” to read as follows:

§ 1274.103 Definitions.

* * * * *

Research misconduct is defined in 14 CFR 1275.101. NASA policies and procedures regarding Research misconduct are set out in 14 CFR part 1275, “Investigation of Research Misconduct.”

* * * * *

8. Add § 1274.943 to read as follows:

§ 1274.943 Investigation of Research Misconduct.

Investigation of Research Misconduct (May 2005)

Recipients of this cooperative agreement are subject to the requirements of 14 CFR part 1275, “Investigation of Research Misconduct.”

[End of provision]

[FR Doc. 05-9952 Filed 5-18-05; 8:45 am]

BILLING CODE 7510-01-P